DEPARTMENT OF DEFENSE

Department of the Army, Corps of Engineers

Intent To Prepare a Draft Environmental Impact Statement for the Proposed Delta Wetlands Project in San Joaquin and Contra Costa Counties, CA, Corps Permit Application Number SPK-1901-09804

AGENCY: Department of the Army, U.S. Army Corps of Engineers, DOD.

ACTION: Notice of Intent.

SUMMARY: Delta Wetland Properties (Applicant) has applied for a Department of Army permit under Section 404 of the Clean Water Act (CWA) and Section 10 of the Rivers and Harbors Act of 1899 (R & H A) to develop two Reservoir Islands (Bacon Island and Webb Tract). Applications with the Department of Army under Section 404 of the CWA for the discharge of dredged or fill material into waters of the United States and under the Rivers and Harbors Act (RHA) Section 10 for activities within navigable waters were first filed with the U.S. Army Corps of Engineers (Corps) in 1987. The U.S. Fish and Wildlife Service (USFWS) and National Marine Fisheries Service (NMFS) issued no-jeopardy Biological Opinions (BOs) for the project in May and June 2000. The Corps issued a Department of the Army Permit under CWA Section 404 (Permit 190109804) for the project on June 26, 2002. Permit 190109804 required that construction be completed by December 31, 2007. The applicant is applying for a new permit for the project because the previously issued permit has expired.

The Corps has determined that a Supplement to the Environmental Impact Statement (EIS) for the Delta Wetlands Project (prepared in 2001) is required. Delta Wetland Properties has applied for a new Department of the Army permit to fill approximately 2,156 acres of waters of the United States, including wetlands, to implement the project.

DATES: The Corps will conduct a public scoping meeting that will be held on Monday, March 11, 2013 from 4:00 p.m. to 7:00 p.m.

ADDRESSES: The public scoping meeting will be held at the Tsakopoulos Galleria Library located at 828 I Street, Sacramento, CA 95814.

FOR FURTHER INFORMATION CONTACT: Mr. Marc Fugler, (916) 557-5255, mailto:marc.a.fugler@usace.army.mil.

SUPPLEMENTARY INFORMATION: Interested parties are invited to submit written comments on the permit application on or before March 20, 2013. Scoping comments should be submitted within the next 60 days, but may be submitted at any time prior to publication of the Supplemental Draft EIS. To submit comments on this notice or for questions about the proposed action and the Supplemental Draft EIS, please contact Marc Fugler, 1325 J Street, Sacramento, CA 95814-4708. Parties interested in being added to the Corps' electronic mail notification list for the proposed project can email a request to spk-regulatory-info@usace.army.mil and indicate which list you would like your email address to be added. Please refer to Identification Number SPK-1901-09804 in any correspondence.

The Applicant's Preferred Alternative is generally the same as described in the 2001 EIS (available at http://www.deltawetlandsproject.com) and the Department of the Army permit for the project issued in 2002. Since 2002, the applicant has entered into a partnership with Semitropic Water District Storage (Semitropic) to develop the project, to integrate the project into the operation of the Semitropic Groundwater Storage Bank and the Antelope Valley Water Bank, and to provide project water for agricultural uses within Semitropic's service area.

Activities that would result in the discharge of dredged or fill material into waters of the U.S. on the Reservoir Islands interiors consist of the construction of new intake and discharge facilities, new boat berthing facilities adjacent to each intake and discharge facility, and interior grading and perimeter levee improvements. Activities that would result in work in navigable waters adjacent to the Reservoir Islands consist of the placement of new intake facilities and installation of fish screens, new boat berthing facilities adjacent to each intake and discharge facility, and new pumps and outfalls to discharge water stored in the reservoirs into the Delta. Compensation for wetland and wildlife effects of the water storage operations on the Reservoir Islands would be provided by implementing a Habitat Management Plan (HMP) on two Habitat Islands (Bouldin Island and the majority of Holland Tract). Bacon Island and Bouldin Island are located in San Joaquin County and Holland Tract and Webb Tract are located in Contra Costa County.

A wetland delineation for the project islands verified by the Corps in April 2002 identified a total of 860.47 acres of jurisdictional waters. This delineation expired in 2007 and an updated delineation was conducted for the project islands in 2012. The updated delineation identifies a total of 3,851.70 acres of potentially jurisdictional features. The primary differences in the verifications consist of the reclassification of “exotic marsh” in the 2002 delineation to freshwater marsh and the addition of two wetland types: Agricultural wetlands and forested wetlands. The updated delineation identifies the following acreages of potentially jurisdictional waters on the project islands: Bacon Island 572.69 acres, Webb Tract 1,583.61 acres, Holland Tract 996.28 acres, and Bouldin Island 699.12 acres. The applicant proposes to fill approximately 2,156 acres of potentially jurisdictional waters on the Reservoir Islands. Impacts would be mitigated through implementation of the HMP which would create or enhance (net) 1,147 acres of wetlands and other waters of the U.S. on the Habitat Islands. In addition, any wetlands not filled by levee improvements, intake construction, or mass grading on the Reservoir Islands would be converted to seasonally open water habitat (lacustrine).

The Supplemental EIS will include alternatives to the Proposed Action that will meet NEPA requirements for a reasonable range of alternatives, and will also meet the requirements of the CWA Section 404(b)(1) Guidelines. The alternatives to be evaluated in the Supplemental EIS are anticipated to consist of the following: (1) An alternative with different operating criteria for diversion and discharge of stored water, (2) the project as proposed in the 404 permit application (i.e., the Applicant's Preferred Alternative), (3) an alternative in which all four islands would be used as reservoirs with some compensation habitat provided on Bouldin Island, and (4) the No Project Alternative in which the four islands would continue to be used for intensive agricultural operations.

The Corps' public involvement program includes several opportunities to provide oral and written comments on the proposed Delta Wetlands Project through the NEPA process. Affected federal, state, regional, and local agencies, Native American tribes, and other interested organizations and parties are invited to participate. Potentially significant issues to be analyzed in depth in the Supplemental EIS include loss of waters of the United States (including wetlands), and impacts related to water supply, water quality, utilities and public services, traffic and navigation, fish, vegetation and wetlands, wildlife, land use and agriculture, recreation, visual resources, air quality, climate change, and socioeconomics.

The Corps will reinitiate formal consultation with USFWS and NMFS under Section 7 of the Endangered Species Act for impacts to listed species that may result from the project. The Corps will also reinitiate consultation with the State Historic Preservation Office under Section 106 of the National Historic Preservation Act for properties listed or potentially eligible for listing on the National Register of Historic Places, as appropriate.

The Supplemental EIS is expected to be made available to the public in 2013.

Dated: February 13, 2013.
William J. Leady,
Colonel, U.S. Army, District Engineer.

[FR Doc. 2013-04722 Filed 2-27-13; 8:45 am]

BILLING CODE 3720-58-P